SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

I. The information collections below are pending at SSA. SSA will submit them to OMB within 60 days from the date of this notice. To be sure we consider your comments, we must receive them no later than December 30, 2014. Individuals can obtain copies of the collection instruments by writing to the above email address.

1. Modified Benefit Formula Questionnaire-Foreign Pension—0960-0561. SSA uses Form SSA-308 to determine exactly how much (if any) of a foreign pension may be used to reduce the amount of Title II Social Security retirement or disability benefits under the modified benefit formula. The respondents are applicants for Title II Social Security retirement or disability benefits who have foreign pensions.

Type of Request: Extension of an OMB-approved information collection.

Modality of completion | Number of responses | Frequency of response | Average burden per response (minutes) | Estimated total annual burden (hours)
SSA-308 | 13,452 | 1 | 10 | 2,242
Greenberg cases | 1,666 | 1 | 60 | 1,666
Totals | 15,118 |  |  | 3,908

2. Filing Claims Under the Federal Tort Claims Act—20 CFR 429.101-429.110—0960-0667. The Federal Tort Claims Act is the legal mechanism for compensating persons injured by negligent or wrongful acts that occur during the performance of official duties by Federal employees. In accordance with the law, SSA accepts monetary claims filed under the Federal Tort Claims Act for damages against the United States, loss of property, personal injury, or death resulting from an SSA employee's wrongful act or omission. The regulation sections cleared under this information collection request require claimants to provide information SSA can use to investigate and determine whether to make an award, compromise, or settlement under the Federal Tort Claims Act. The respondents are individuals or entities making a claim under the Federal Tort Claims Act.

Type of Request: Extension of an OMB-approved information collection.

Modality of completion | Number of responses | Frequency of response | Average burden per response (minutes) | Estimated total annual burden (hours)
429.102; 429.103 ¹ | 1 |  |  | 1
429.104(a) | 11 | 1 | 5 | 1
429.104(b) | 43 | 1 | 5 | 4
429.104(c) | 1 | 1 | 5 | 0
429.106(b) | 6 | 1 | 10 | 1
Totals | 62 |  |  | 7
¹ The 1 hour represents a placeholder burden. We are not reporting a burden for this collection because respondents complete OMB-approved Form SF-95.

II. SSA submitted the information collections below to OMB for clearance. Your comments regarding the information collections would be most useful if OMB and SSA receive them 30 days from the date of this publication. To be sure we consider your comments, we must receive them no later than December 1, 2014. Individuals can obtain copies of the OMB clearance package by writing to OR.Reports.Clearance@ssa.gov.

1. Partnership Questionnaire—20 CFR 404.1080-1082—0960-0025. SSA considers partnership income in determining entitlement to Social Security benefits. SSA uses information from Form SSA-7104 to determine several aspects of eligibility for benefits, including the accuracy of reported partnership earnings, the veracity of a retirement, and lag earnings. The respondents are applicants for, and recipients of, Title II Social Security Old Age, Survivors, and Disability Insurance benefits.

Type of Request: Revision of an OMB-approved information collection.

Modality of completion | Number of responses | Frequency of response | Average burden per response (minutes) | Total estimated annual burden (hours)
SSA-7104 | 12,350 | 1 | 30 | 6,175

2. Statement of Marital Relationship (By one of the parties)—20 CFR 404.726—0960-0038. SSA must obtain a signed statement from a spousal applicant if the applicant claims a common-law marriage to the insured in a state in which such marriages are recognized, and no formal marriage documentation exists. SSA uses information we collect on Form SSA-754-F4 to determine if an individual applying for spousal benefits meets the criteria of common-law marriage under state law. The respondents are applicants for spouse's Social Security benefits or Supplemental Security Income (SSI) payments.

Note: This is a correction notice. SSA published this information collection as a revision on August 28, 2014, at 79 FR 51387. Since we are no longer revising this information collection, it is now an extension of an OMB-approved information collection.

Type of Request: Extension of an OMB-approved information collection.

Modality of completion | Number of responses | Frequency of response | Average burden per response (minutes) | Estimated total annual burden (hours)
SSA-754-F4 | 30,000 | 1 | 30 | 15,000

3. Workers' Compensation/Public Disability Questionnaire—20 CFR 404.408—0960-0247. Section 224 of the Social Security Act (Act) provides for the reduction of disability insurance benefits (DIB) when the combination of DIB and any workers' compensation (WC) or certain Federal, State or local public disability benefits (PDB) exceeds 80 percent of the worker's pre-disability earnings. SSA field office staff conducts face-to-face interviews with applicants using the electronic WC/PDB screens in the Modernized Claims System (MCS) to determine if the worker's receipt of WC or PDB payments will cause a reduction of DIB. The respondents are applicants for the Title II DIB.

Type of Request: Extension of an OMB-approved information collection.

Modality of completion | Number of responses | Frequency of response | Average burden per response (minutes) | Total estimated annual burden (hours)
MCS | 248,000 | 1 | 15 | 62,000

4. Medicaid Use Report—20 CFR 416.268—0960-0267. Section 20 CFR 416.268 of the Code of Federal Regulations requires SSA to determine eligibility for (1) special SSI cash payments and for (2) special SSI eligibility status for a person who works despite a disabling condition. It also explains how, in order to qualify for special SSI eligibility status, an individual must establish that termination of eligibility for benefits under Title XIX of the Act would seriously inhibit the ability to continue employment. SSA uses the information required by this regulation to determine if an individual is entitled to special Title XVI SSI payments and, consequently, to Medicaid. The respondents are SSI recipients for whom SSA has stopped payments based on earnings.

Type of Request: Extension of an OMB-approved information collection.

Modality of completion | Number of responses | Frequency of response | Average burden per response (minutes) | Estimated total annual burden (hours)
20 CFR 416.268 | 60,000 | 1 | 3 | 3,000

5. Medical Report on Adult with Allegation of Human Immunodeficiency Virus Infection; Medical Report on Child with Allegation of Human Immunodeficiency Virus Infection—20 CFR 416.933-20 CFR 416.934—0960-0500. Section 1631(e)(i) of the Act authorizes the Commissioner of SSA to gather information to make a determination about an applicant's claim for SSI payments; this procedure is the presumptive disability (PD). SSA uses Forms SSA-4814-F5 and SSA-4815-F6 to collect information necessary to determine if an individual with human immunodeficiency virus infection, who is applying for SSI disability benefits, meets the requirements for PD. The respondents are the medical sources of the applicants for SSI disability payments.

Type of Request: Revision of an OMB-approved information collection.

Modality of completion | Number of responses | Frequency of response | Average burden per response (minutes) | Total estimated total annual burden (hours)
SSA-4814-F5 | 46,200 | 1 | 10 | 7,700
SSA-4815-F6 | 12,900 | 1 | 10 | 2,150
Totals | 59,100 |  |  | 9,850

Dated: October 27, 2014.
Faye Lipsky,
Reports Clearance Director, Social Security Administration.

[FR Doc. 2014-25860 Filed 10-30-14; 8:45 am]

BILLING CODE 4191-02-P